FEDERAL COMMUNICATIONS COMMISSION

[Report No. AUC-08-85-E (Auction 85); AU Docket No. 08-22; DA 08-1681]

Auction of LPTV and TV Translator Digital Companion Channels Scheduled for November 5, 2008; Settlement Period Extended to August 14, 2008

AGENCY: Federal Communications Commission.

ACTION: Notice.

SUMMARY: This document announces the extension of the filing period for parties with mutually exclusive proposals to file their settlement agreements for the upcoming auction of Low Power Television (LPTV) and TV Translator Digital Companion Channel construction permits, Auction 85.

DATES: Settlement filing period extended to August 14, 2008.

FOR FURTHER INFORMATION CONTACT: Wireless Telecommunications Bureau, Auctions and Spectrum Access Division: Lynne Milne at 202-418-0660 or Media Bureau, Video Division: Shaun Maher at 202-418-2324.

SUPPLEMENTARY INFORMATION: 1. On July 17, 2008, the Wireless Telecommunications and the Media Bureaus (collectively, the Bureaus) announced an auction of construction permits for LPTV and TV Translator digital companion channels (Auction 85), scheduled to commence on November 5, 2008, and sought comment on procedures for conducting Auction 85. The Auction 85 Comment Public Notice, 73 FR 43230, July 24, 2008, also announced a settlement period beginning July 17, 2008 and ending at 6 p.m. Eastern Time (ET) on Thursday, July 31, 2008. The prohibition of collusion set forth in 47 CFR 1.2105(c) and 73.5002(d) was temporarily lifted during this limited period to allow parties with proposals in the mutually exclusive (MX) groups identified in that Public Notice to dismiss their proposals, enter into settlement agreements or otherwise resolve their mutual exclusivities by means of engineering solutions.

2. On July 25, 2008, the Bureaus received a request to extend the Auction 85 settlement period until September 8, 2008, stating that Auction 85 applicants have not had sufficient time to allow for the negotiation of potential settlements and the preparation of necessary engineering and legal documents to be filed by July 31, 2008.

3. After careful consideration, the Bureaus determined that a two-week extension of the Auction 85 settlement period could be accommodated without disruption to the auction schedule. Therefore, the Auction 85 settlement period is extended to August 14, 2008 at 6:00 PM Eastern Time (ET). The parties must submit their requests for dismissal, settlement agreements (including affidavits required by 47 CFR 73.3525), and/or engineering submissions by the deadline on August 14, 2008, following the procedures described in the Auction 85 Comment Public Notice.

Federal Communications Commission.
Gary D. Michaels,
Deputy Chief, Auctions and Spectrum Access Division, WTB.

[FR Doc. E8-18214 Filed 8-6-08; 8:45 am]

BILLING CODE 6712-01-P